DEPARTMENT OF ENERGY

Federal Energy Regulatory Commission

Combined Notice of Filings #1

Take notice that the Commission received the following Complaints and Compliance filings in EL Dockets:

Docket Numbers: EL00-95-312; EL00-98-284.

Applicants: Investigation of Practices of the California Independent System Operator and the California Power Exchange, San Diego Gas & Electric Company v. Sellers of Energy and Ancillry Services.

Description: Notice of the California Power Exchange re Defaulted Amounts Pursuant to the November 1, 2021 Market Clearing, etc.

Filed Date: 11/23/21.

Accession Number: 20211123-5233.

Comment Date: 5 p.m. ET 12/14/21.

Docket Numbers: EL22-19-000.

Applicants: Wabash Valley Power Association, Inc. v. PJM Interconnection, L.L.C. and Independent Market Monitor for PJM.

Description: Complaint, Wabash Valley Power Association, Inc.

Filed Date: 12/3/21.

Accession Number: 20211203-5063.

Comment Date: 5 p.m. ET 1/3/22.

Take notice that the Commission received the following electric rate filings:

Docket Numbers: ER20-2594-001.

Applicants: Vermont Transco LLC.

Description: Compliance filing: Supplemental Order No. 864 Compliance Filing Under the 1991 Vermont Transmission to be effective 1/1/2020.

Filed Date: 12/3/21.

Accession Number: 20211203-5161.

Comment Date: 5 p.m. ET 12/13/21.

Docket Numbers: ER21-1694-001.

Applicants: ISO New England Inc., Green Mountain Power Corporation.

Description: Compliance filing: ISO New England Inc. submits tariff filing per 35: GMP; Docket No. ER21-1694—Amended Supplement to Order 864 Compliance Filings to be effective 1/1/2020.

Filed Date: 12/3/21.

Accession Number: 20211203-5132.

Comment Date: 5 p.m. ET 12/13/21.

Docket Numbers: ER21-1709-001.

Applicants: ISO New England Inc., Vermont Transco LLC.

Description: Compliance filing: ISO New England Inc. submits tariff filing per 35: VTransco; Docket No. ER21-1709 Amended Supplemental Order 864 Compliance Filing to be effective 1/1/2020.

Filed Date: 12/3/21.

Accession Number: 20211203-5119.

Comment Date: 5 p.m. ET 12/13/21.

Docket Numbers: ER21-2423-002.

Applicants: Generation Bridge Connecticut Holdings, LLC.

Description: Tariff Amendment: Response to Deficiency Letter to be effective 7/15/2021.

Filed Date: 12/2/21.

Accession Number: 20211202-5238.

Comment Date: 5 p.m. ET 12/23/21.

Docket Numbers: ER21-2424-002.

Applicants: Generation Bridge M&M Holdings, LLC.

Description: Tariff Amendment: Response to Deficiency Letter to be effective 7/15/2021.

Filed Date: 12/2/21.

Accession Number: 20211202-5240.

Comment Date: 5 p.m. ET 12/23/21.

Docket Numbers: ER22-530-000.

Applicants: Tri-State Generation and Transmission Association, Inc.

Description: § 205(d) Rate Filing: Amendment to Rate Schedule FERC No. 16 to be effective 2/1/2022.

Filed Date: 12/2/21.

Accession Number: 20211202-5244.

Comment Date: 5 p.m. ET 12/23/21.

Docket Numbers: ER22-531-000.

Applicants: Tri-State Generation and Transmission Association, Inc.

Description: Tariff Amendment: Notice of Cancellation of FERC Rate Schedule No. 250 to be effective 1/31/2022.

Filed Date: 12/2/21.

Accession Number: 20211202-5250.

Comment Date: 5 p.m. ET 12/23/21.

Docket Numbers: ER22-532-000.

Applicants: Midcontinent Independent System Operator, Inc.

Description: § 205(d) Rate Filing: 2021-12-03_SA 3223 Richland Interconnection-MidAmerican 2nd Rev GIA (J535) to be effective 11/23/2021.

Filed Date: 12/3/21.

Accession Number: 20211203-5009.

Comment Date: 5 p.m. ET 12/27/21.

Docket Numbers: ER22-533-000.

Applicants: Wisconsin Power and Light Company.

Description: § 205(d) Rate Filing: WPL-Darien Solar Affected System FCA to be effective 2/1/2022.

Filed Date: 12/3/21.

Accession Number: 20211203-5031.

Comment Date: 5 p.m. ET 12/27/21.

Docket Numbers: ER22-534-000.

Applicants: PJM Interconnection, L.L.C.

Description: § 205(d) Rate Filing: Original WMPA, Service Agreement No. 6228, Queue No. AF2-057 to be effective 11/3/2021.

Filed Date: 12/3/21.

Accession Number: 20211203-5068.

Comment Date: 5 p.m. ET 12/27/21.

Docket Numbers: ER22-535-000.

Applicants: American Electric Power Service Corporation, Ohio Power Company, AEP Ohio Transmission Company, Inc., PJM Interconnection, L.L.C.

Description: § 205(d) Rate Filing: American Electric Power Service Corporation submits tariff filing per 35.13(a)(2)(iii: AEP submits one Facilities Agreement re: ILDSA, SA No. 1336 to be effective 2/2/2022.

Filed Date: 12/3/21.

Accession Number: 20211203-5073.

Comment Date: 5 p.m. ET 12/27/21.

Docket Numbers: ER22-536-000.

Applicants: Southwestern Public Service Company.

Description: § 205(d) Rate Filing: Ministerial filing to incorporate ER20-277 into Sagamore to be effective 12/1/2020.

Filed Date: 12/3/21.

Accession Number: 20211203-5076.

Comment Date: 5 p.m. ET 12/27/21.

Docket Numbers: ER22-537-000.

Applicants: NorthWestern Corporation.

Description: § 205(d) Rate Filing: SA 323 1st Rev—LGIA with Judith Gap Energy LLC to be effective 12/6/2021.

Filed Date: 12/3/21.

Accession Number: 20211203-5077.

Comment Date: 5 p.m. ET 12/27/21.

Docket Numbers: ER22-538-000.

Applicants: Tucson Electric Power Company.

Description: § 205(d) Rate Filing: OATT Service Agreement Nos. 490 and 491 to be effective 11/4/2021.

Filed Date: 12/3/21.

Accession Number: 20211203-5134.

Comment Date: 5 p.m. ET 12/27/21.

Docket Numbers: ER22-540-000.

Applicants: California Independent System Operator Corporation.

Description: § 205(d) Rate Filing: 2021-12-03 First Amendment to LGIA—Sun Stream Solar 2, SDG&E, & CAISO to be effective 2/2/2022.

Filed Date: 12/3/21.

Accession Number: 20211203-5171.

Comment Date: 5 p.m. ET 12/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2021.
Kimberly D. Bose,
Secretary.

[FR Doc. 2021-26668 Filed 12-8-21; 8:45 am]

BILLING CODE 6717-01-P